DEPARTMENT OF HEALTH AND HUMAN SERVICES

Centers for Disease Control and Prevention

[Program Announcement 02059]

Cooperative Agreement for Development of the National Violent Death Reporting System (NVDRS); Notice of Availability of Funds

A. Purpose

The Centers for Disease Control and Prevention (CDC) announces the availability of fiscal year (FY) 2002 funds for a cooperative agreement program for Development of the National Violent Death Reporting System (NVDRS). This program addresses the “Healthy People 2010” focus area of Injury and Violence Prevention.

The purpose of the program is to begin establishing state violent death information collection systems that will form the basis of NVDRS. The purpose of NVDRS is to generate public health surveillance information at the national, state, and local levels that is more detailed, useful, and timely than is currently available. This information will help develop, inform, and evaluate violence prevention strategies at both state and national levels. The proposed system will build upon a pilot system, the National Violent Injury Statistics System (NVISS), that has been under development since 1999. Additional information on this pilot system can be found at www.NVISS.org.

Measurable outcomes of the program will be in alignment with one or more of the following performance goals for the National Center for Injury Prevention and Control (NCIPC):

1. Reduce the risk of youth violence.

2. Reduce violence against women.

3. Enhance the capacity of states to implement effective rape prevention and education programs.

4. Increase external input on the research priorities, policies, and procedures related to the extramural research supported by CDC.

5. Provide online access to injury prevention data.

6. Improve the uniformity, quality, and accessibility of emergency department data for public health surveillance in several states; ultimately developing the capacity to improve data in all states through development of guidelines, recommendations, or technical assistance.

B. Authority and Catalog of Federal Domestic Assistance Number

This program is authorized under section 301(a) (42 U.S.C. 241(a)) of the Public Health Service Act and section 391(a) (42 U.S.C. 280(b)) of the Public Service Health Act, as amended. The catalog of Federal Domestic Assistance number is 93.136.

C. Eligible Applicants

Assistance will be provided only to the health departments of states or their bona fide agents, including the District of Columbia, the Commonwealth of Puerto Rico, the Virgin Islands, the Commonwealth of the Northern Mariana Islands, American Samoa, Guam, the Federated States of Micronesia, the Republic of the Marshall Islands, the Republic of Palau, and the federally recognized Indian tribal governments. In consultation with States, assistance may be provided to political subdivisions of States.

The ability to obtain population-based information from core data sets is crucial for the successful development of the NVDRS. Eligible applicants must document through letters of support access to information on individual, identifiable decedents from all of the following data sources:

1. Death certificates.

2. Medical examiner and/or coroner records.

3. Police records (Supplemental Homicide Reports at a minimum).

4. Crime laboratory records.

The letters of support must come from the agency authorized to grant access to the specific required data. They must note the most recent year for which data are available and make a statement regarding a memorandum of agreement/understanding that is in place between the applicant and the data agency. The memorandum of agreement must provide the applicant access to data while specifying any limitations regarding data use. A copy of the memorandum of agreement/understanding should accompany each letter of support to confirm access.

Applicants from states that do not have centralized, statewide medical examiner/coroner or police records must obtain the letters of support from the appropriate agencies serving the three largest cities within the state.

Applications that fail to submit evidence listed above will be considered non responsive and will be returned without review.

Funding will be available to those applicants who are willing to pilot test a child fatality NVDRS module developed to collect additional data from child fatality review committees on violent deaths occurring in children less than 18 years of age.

Minimum Requirements

In order to qualify for this funding, the applicant must provide evidence of an existing centralized statewide child fatality review committee and access to information on individual, identifiable decedents generated by this committee.

Acceptable documentation, at a minimum, is a letter of support from the child fatality review committee on committee letterhead. The letter must note the most recent year for which data are available and make a statement regarding a memorandum of agreement/understanding that is in place between the applicant and the data agency. The memorandum of agreement must provide the applicant access to data while specifying any limitations regarding data use. A copy of the memorandum of agreement/understanding should accompany each letter of support to confirm access. Applicants that do not apply for this optional funding will not be considered non responsive because this activity is optional.

Applications will be classified into two categories, “New” and “Experienced.” States with funding from an external source (other than state funds) for any form of violent death reporting or surveillance occurring among adults, defined as 18 years of age or older, will be considered an “Experienced” system. States with surveillance projects (state or local) funded by the Harvard Injury Control Research Center as part of the NVISS will be considered Experienced. States without any such external funding will be considered a “New” system. Funds awarded for this program cannot be used to supplant (replace) existing activity funds.

Note: Title 2 of the United States Code section 1611 states that an organization described in section 501(c)(4) of the Internal Revenue Code that engages in lobbying activities is not eligible to receive Federal funds constituting an award, grant or loan.

D. Availability of Funds

Approximately $1.2 million is available in FY 2002 to fund approximately five awards. It is expected that the average award will be $240,000, ranging from $150,000 to $220,000 for states with up to 800 cases of violent death in calendar year 2000 and from $220,000 to $320,000 for states with greater than 800 cases of violent death in 2000. At least one applicant from each funding range will be funded.

“New” and “Experienced” system applications will be evaluated separately; at least one applicant from each group will be funded. It is expected that the awards will begin on or about September 30, 2002 and will be made for a 12-month budget period within a project period of up to five years. Funding estimates may change.

Approximately $100,000 of optional funding is available to fund up to five states to pilot test the child fatality NVDRS module. It is expected the average award will be $20,000. It is expected that the awards will begin on or about September 30, 2002 and will be made for a 12-month budget period within a project period of up to five years. Funding estimates may change.

Matching funds are not required for this program.

Continuation awards within an approved project period will be made on the basis of satisfactory progress, as evidenced by required reports, and the availability of funds.

E. Program Requirements

In conducting activities to achieve the purpose of this program, the recipient will be responsible for the activities under 1. or 2. and 3. (if applying for optional funds), Recipient Activities, and CDC will be responsible for the activities under 4. CDC Activities.

For New Violent Death Reporting Systems

1. Recipient Activities.

a. Establish an advisory committee that will help in the development of the state violent death reporting system. Membership should include representatives from agencies that control medical examiner/coroner records, death certificates, police records, and crime laboratory data.

b. Establish routine access to uniquely identifiable case information from each of the four critical data sources for deaths occurring on January 1, 2003 or later.

c. Use uniform data elements provided by the CDC to collect required data.

d. Abstract and code uniform data elements from all core data sources for all cases identified.

e. Develop procedures to combine information from the data sources. Maintain a unique case ID number.

f. Establish (1) a centralized location for maintaining a secure data storage system that allows for ready access and retrieval of abstracted and edited data and (2) an off-site backup storage system of abstracted and edited data.

g. Develop a quality assurance program that includes an automated record tracking system, edit reports, systematic review of the accuracy and completeness of abstracted data from all core data sources, and methods to identify and resolve case ascertainment and data collection and processing problems, e.g., identifying and removing duplicate records prior to submission to CDC.

h. Transmit data free of personal identifiers electronically to CDC using a specified time schedule.

i. Disseminate surveillance results.

j. Evaluate the surveillance system according to standard guidelines, including simplicity, flexibility, data quality, acceptability, sensitivity, predictive value positive, representativeness, timeliness and stability. (See MMWR Recommendations and Reports, “Updated guidelines for evaluating public health surveillance systems,” RR-13, vol. 50, July 27, 2001.)

k. Prepare standard reports with aggregated data and distribute them widely.

l. Share information learned from project through presentations, peer-reviewed journals and media events.

m. Participate in a collaborative effort to establish a uniform violent death reporting system across states. Meetings will be held on a semiannual basis.

For Experienced Violent Death Reporting Systems

2. Recipient Activities.

a. Maintain an advisory committee that will help in the enhancement of the reporting system. The committee should be able to help develop methods for data dissemination and set priorities for helping to develop prevention strategies. The committee should include, at a minimum, representatives from agencies that control the core data sources.

b. Maintain or expand routine access to uniquely identifiable case information from each of the four core data sources for deaths occurring on January 1, 2003 or later.

c. Use uniform data elements provided by the CDC to collect required data.

d. Use or modify existing procedures that combine information from the data sources. Maintain a unique case ID number.

e. Maintain or modify (1) an existing secure data storage system that allows for ready access and retrieval of all abstracted and edited data and (2) off-site backup data storage system for all abstracted and edited data from the core data sources.

f. Develop a quality assurance program that includes an automated record tracking system, edit reports, systematic review of the accuracy and completeness of abstracted data from all core data sources, and methods to identify and resolve case ascertainment and data collection and processing problems e.g., identifying and removing duplicate records prior to submission to CDC.

g. Transmit data free of personal identifiers electronically to the CDC using a specified time schedule.

h. Disseminate surveillance results.

i. Evaluate the surveillance system according to standard guidelines including simplicity, flexibility, data quality, acceptability, sensitivity, predictive value positive, representativeness, timeliness and stability. (See MMWR Recommendations and Reports, “Updated guidelines for evaluating public health surveillance systems,” RR-13, vol. 50, July 7, 2001.)

j. Prepare standard reports with aggregated data and distribute them widely.

k. Share information learned from the project through presentations, peer review journals and media events.

l. Participate in a collaborative effort to establish a uniform violent death reporting system across states. Meetings will be held on a semiannual basis.

Child Fatality NVDRS Module

3. Recipient Activities.

a. Establish or maintain partnership with child death review team(s).

b. Use uniform data elements provided by the CDC to collect required data.

c. Transmit data free of personal identifiers electronically to the CDC using a specified time schedule.

d. Provide feedback to CDC regarding the appropriateness of module for gaining data related to violent deaths to children.

Note: “New” recipients may choose to begin data gathering in smaller geographic areas, such as a city or region rather than beginning statewide.

“Experienced” recipients may choose to expand data gathering to a broader geographic area, region or statewide, if not currently statewide. If an applicant chooses to begin collecting data in a portion of the state, the applicant must outline a plan for expansion statewide within the five-year project period.

4. CDC Activities.

a. Provide required uniform data elements and definitions to be collected similar to those used by NVISS.

b. Provide standardized software that will be used to transmit data to CDC, either through a web-based or distributed (a stand-alone server located in the state) system. The software will be menu-driven with editing functions, data transmission protocols, and report options for use in data review and quality assurance by the state prior to submission to CDC.

c. Provide training in data standards and coding, data entry, data editing and other quality assurance functions, record tracking, and transmission of data to the CDC.

d. Provide technical assistance in solving problems in all aspects of the system.

e. Provide updates to the necessary software as needed.

f. Review submitted records for quality and completeness and provide feedback to recipients. Work with the recipient to systematically resolve problems of missing or inaccurate data.

g. Prepare an analysis file of final edited data to be shared with the recipient for data analysis and reporting of findings.

h. Prepare standard reports with aggregated data and distribute them widely.

F. Content

Applications

The Program Announcement title and number must appear in the application. Use the information in the Program Requirements, Other Requirements, and Evaluation Criteria sections to develop the application content. Your application will be evaluated on the criteria listed, so it is important to follow them in laying out your program plan. The narrative should be no more than 30 pages, double-spaced, printed on one side, with one inch margins, and unreduced font. The total number of pages should not exceed 65 pages, including appendices and abstract. Applicants that fit into the “Experienced” category are allowed up to an additional five pages for a required appendix that evaluates their current violent death surveillance system according to standard guidelines. States applying for funding to pilot test the child fatality NVDRS module should submit a separate plan no greater than five pages in length.

The narrative should consist of, at a minimum, a Plan, Objectives, Methods, Evaluation and Budget.

The application narrative should include the following information:

1. Documentation of access to required data source.

2. A one-page abstract of proposed activities and project outcomes. The abstract should specify the type of applicant (“new” or “experienced”), the number of violent deaths category into which the state fits (less than or equal to 800 or greater than 800 deaths), and whether the state is applying for the child fatality NVDRS module optional funding.

3. Background.

4. Goal(s) and Objectives.

5. Methods.

6. Experience.

7. Capacity and Staffing.

8. Evaluation.

9. Collaboration.

10. Human Subjects.

11. Budget.

12. Plan for incorporating child fatality NVDRS module into existing or proposed state violent death system. (Only if applying for child fatality NVDRS module optional funds).

13. Appendices.

G. Submission and Deadline

Application

Submit the original and two copies of PHS 5161-1 (OMB Number 0920-0428). Forms are available in the application kit and at the following Internet address: www.cdc.gov/od/pgo/forminfo.htm

Application forms must be submitted in the following order:

Cover Letter

Table of Contents

Application

Budget Information Form

Budget Justification

Checklist

Assurances

Certifications

Disclosure Form

Human Subjects Certification

Indirect Cost Rate Agreement

Narrative

The application must be received on or before 5:00 p.m. Eastern Time August 19, 2002. Submit the application to: Technical Information Management Section, PA 02059, Procurement and Grants Office, Centers for Disease Control and Prevention (CDC), 2920 Brandywine Road, Room 3000, Atlanta, GA 30341-4146.

Deadline: Applications will be considered as meeting the deadline if they are received before 5 p.m. Eastern Time on the deadline date. Applicants sending applications by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Applications which do not meet the above criteria will not be eligible for competition and will be discarded. Applicants will be notified of their failure to meet the submission requirements.

H. Evaluation Criteria

Applicants are required to provide Measures of Effectiveness that will demonstrate the accomplishment of the various identified objectives of the cooperative agreement. Measures of Effectiveness must relate to the performance goals as stated in section “A. Purpose” of this announcement. Measures must be objective and quantitative and must measure the intended outcome. These Measures of Effectiveness will be submitted with the application and will be an element of evaluation.

Each application will be evaluated individually against the following criteria by an independent review group appointed by CDC.

1. Methods (25 points).

a. The extent that the applicant describes the methods used for case ascertainment and those used to access and abstract data from core data sources. This should include a discussion of methods used in motivating reporting sources, ensuring high quality data abstraction, and resolving data issues.

b. The extent that the applicant documents a detailed and clear description of how linkage of records from different sources will be or is accomplished.

c. The extent that the applicant describes how data will be maintained, edited, and transferred to the CDC from a central location in the state.

d. The extent that the applicant provides a five-year time line for the planned activities.

e. The extent that the applicant provides a detailed plan for assuring confidentiality where required by state law or regulation.

f. The extent that the applicant provides evidence that proposed activities are not duplications of existing activities. (Experienced applicants only)

2. Goal(s) and Objectives (15 points).

a. The extent that the applicant has included goals which are relevant and consistent with the purpose of the program announcement.

b. The extent that the objectives are specific, measurable, assigned, realistic, and time-phased.

3. Experience (15 points).

a. The extent that the applicant documents experience in accessing, collecting, linking, editing, managing and analyzing surveillance information from multiple data sets, especially experience with mortality surveillance.

b. The extent that the applicant provides evidence of experience in injury surveillance, conducting data quality assurance activities and generating data reports.

4. Capacity and Staffing (15 points).

a. The extent that the applicant provides evidence of existing staff with SAS and Microsoft Access expertise, computer programming skills, and skills in data management and quality assurance, especially involving large complex databases, or a plan (position description) to hire someone with such skills and expertise. Resumes or curriculum vitae should be included.

b. The extent that the applicant provides a time table showing when information regarding the occurrence of a violent death during a given calendar quarter is available to the applicant from each of the four required data sources.

c. The extent that the applicant describes existing or needed computer facilities for storing, managing and transmitting data to CDC.

5. Collaboration (15 points).

a. The extent that the applicant provides evidence of involvement by key stakeholders in the current system or a plan for including key stakeholders in the development of a violent death reporting system.

b. The extent that the applicant documents the quality and specificity of access to required and optional data sources, e.g., the limitations of that access, the most recent year data are available, the timeliness and availability of data from all core and optional data sources, the duration of access, etc. Information from the letters of support will be considered in this context.

c. The extent that the applicant provides additional letters of support from potential partners in the project.

d. The extent that the letters of support document specific contributions of the partner, including but not limited to a description of the precise nature of past and proposed collaborations, products, services, and other activities that will be provided by and to the applicant through the proposed collaboration.

6. Evaluation (10 points).

a. The extent that the applicant provides a detailed plan for evaluating the surveillance system. The plan should include standard surveillance evaluation measures described above.

b. The extent that the applicant describes both system and data quality assurance procedures.

7. Background (5 points).

The extent that the applicant documents the magnitude of the violent death problem in the applicant's state and/or target area.

8. Child Fatality NVDRS Module Plan (Not Scored).

The extent that the applicant adequately describes how the child fatality NVDRS module will be incorporated into the existing or proposed state violent death reporting system.

9. Human Subjects (Not Scored).

The extent that the applicant adequately addresses the requirements of 45 CFR Part 46 for the protection of human subjects.

10. Budget (Not Scored).

a. The extent that the budget request is clearly explained, adequately justified, reasonable, sufficient and consistent with the stated objectives and planned activities.

The Budget should include funds for at least two trips to CDC for program related meetings and training.

b. If applying to pilot test the child fatality NVDRS module, a separate budget must be attached.

Note: Applicants applying for additional funds to pilot test the child fatality NVDRS module will only receive this funding if they successfully compete for NVDRS funding.

I. Other Requirements

Technical Reporting Requirements

Provide CDC with original plus two copies of:

1. Semiannual progress reports. The progress report will include a data requirement that demonstrates measures of effectiveness.

2. Financial status report, no more than 90 days after the end of the budget period.

3. Final financial and performance reports, no more than 90 days after the end of the project period.

Send all reports to the Grants Management Specialist identified in the “Where to Obtain Additional Information” section of this announcement.

The following additional requirements are applicable to this program. For a complete description of each, see Attachment 1 of the application kit.

AR-1 Human Subjects Requirements

AR-2 Requirements for Inclusion of Women and Racial and Ethnic Minorities in Research

AR-10 Smoke-Free Workplace Requirements

AR-11 Healthy People 2010

AR-12 Lobbying Restrictions

AR-13 Prohibition on Use of CDC Funds for Certain Gun Control Activities

AR-21 Small, Minority, Women-Owned Businesses

AR-22 Research Integrity

J. Where To Obtain Additional Information

This and other CDC announcements, the necessary applications, and associated forms can be found on the CDC home page Internet address— http://www.cdc.gov Click on “Funding” then “Grants and Cooperative Agreements.”

For business management assistance, contact: Van A. King, Grants Management Specialist ,Grants Management Branch, Procurement and Grants Office, Centers for Disease Control and Prevention, 2920 Brandywine Road, Room 3000, Atlanta, GA 30341-4146, Telephone number: (770)488-2751, E-mail address: Vking@cdc.gov.

For program technical assistance, contact: Leroy Frazier, Jr., MSPH, CHES, Division of Violence Prevention, National Center for Injury Prevention and Control, Centers for Disease Control and Prevention, 4770 Buford Hwy, NE, MS K60, Atlanta, GA 30341, Telephone number: (770)488-1507, E-mail address: Lfrazier1@cdc.gov.

Dated: June 27, 2002.
Sandra R. Manning,
CGFM Director, Procurement and Grants Office, Centers for Disease Control and Prevention.

[FR Doc. 02-16814 Filed 7-3-02; 8:45 am]

BILLING CODE 4163-18-P